DEPARTMENT OF HEALTH AND HUMAN SERVICES

Substance Abuse and Mental Health Services Administration

Fiscal Year (FY) 2012 Funding Opportunity

AGENCY: Substance Abuse and Mental Health Services Administration, HHS.

ACTION: Notice of intent to award a single source grant to the Natividad Medical Center in Salinas, CA.

SUMMARY: This notice is to inform the public that the Substance Abuse and Mental Health Services Administration (SAMHSA) intends to award approximately $375,000 (total costs) for up to one year to the Natividad Medical Center in Salinas, CA. This is not a formal request for applications. Assistance will be provided only to the Natividad Medical Center based on the receipt of a satisfactory application that is approved by an independent review group.

Funding Opportunity Title: TI-12-009.

Catalog of Federal Domestic Assistance (CFDA) Number: 93.243.

Authority: Section 509 of the Public Health Service Act, as amended.

Justification: Only the Natividad Medical Center in Salinas, CA is eligible to apply. The Substance Abuse and Mental Health Services Administration (SAMHSA) is seeking to award a supplemental grant to the Natividad Medical Center in Salinas, CA, to enable Natividad to continue to develop and implement a training program to teach medical residents skills to provide evidence-based screening, brief intervention, brief treatment and referral to specialty treatment for patients who have, or are at risk for, a substance use disorder as required under the FY 2008 Request for Applications (RFA). This organization was funded under the SBIRT Medical Residency grant program (TI-08-003) in FY 2008. Under the leadership at that time, the Natividad Medical Center received a 4-year grant, although the SBIRT Medical Residency Program is a 5-year program. Subsequent to the original award, new leadership for the grant program has been put in place. As a result, the new leadership has determined that in order to execute the full requirements of the program and to meet the necessary client targets, the final year of funding is required. The purpose of this sole source award is to fund the last year of the 5-year cooperative agreement awarded under the initial announcement. SAMHSA will not accept an application from any other entity. Natividad Medical Center is in the unique position to be awarded one year funding because:

• Natividad Medical Center to date has successfully implemented the SBIRT Medical Residency Program since 2008, and a fifth year of funding would give the program an additional year to train more residents in SBIRT as well as allow the program to solidify sustaining its training program after the end of SAMHSA funding.

• Natividad Medical Center is the only SBIRT Medical Residency Program grantee in Central California, and serves minority, high-risk and vulnerable populations, including farm workers, low-income individuals, adolescents, elderly, homeless, veterans, and individuals with substance abuse and co-occurring disorders.

Contact: Cathy Friedman, Substance Abuse and Mental Health Services Administration, 1 Choke Cherry Road, Room 8-1097, Rockville, MD 20857; telephone: (240) 276-2316; Email: cathy.friedman@samhsa.hhs.gov.

Cathy Friedman,
SAMHSA Public Health Analyst.

[FR Doc. 2012-11725 Filed 5-14-12; 8:45 am]

BILLING CODE 4162-20-P